DEPARTMENT OF COMMERCE

National Institute of Standards and Technology

[Docket No.: 080506635-8697-01]

Announcing Approval of the Withdrawal of Ten Federal Information Processing Standards (FIPS)

AGENCY: National Institute of Standards and Technology (NIST), Commerce.

ACTION: Notice.

SUMMARY: This notice announces that the Secretary of Commerce has approved the withdrawal of ten Federal Information Processing Standards (FIPS).

These FIPS are being withdrawn because they are obsolete, or have not been updated to adopt current voluntary industry standards, federal specifications, federal data standards, or current good practices for information security. Some of these FIPS adopt voluntary industry standards. Federal agencies and departments are directed by the National Technology Transfer and Advancement Act of 1995 (Pub. L. 104-113) to use technical standards that are developed in voluntary consensus standards bodies. Consequently, FIPS that duplicate voluntary industry standards are no longer needed.

Some of these FIPS adopt data standards that are developed and used by other Federal government agencies. These FIPS have not been updated to reflect changes and modifications that have been made to the data standards. The remaining FIPS adopt obsolete Federal specifications for information access and for information security. More recent advisory guidance has been issued concerning access to publicly available government information and computer data authentication. Federal agencies are responsible for using current voluntary industry standards and current federal specifications and data standards in their acquisition and management activities.

DATES: This withdrawal is effective September 2, 2008.

FOR FURTHER INFORMATION CONTACT: Shirley M. Radack, (301) 975-2833, National Institute of Standards and Technology, 100 Bureau Drive, STOP 8930, Gaithersburg, MD 20899-8930, e-mail: shirley.radack@nist.gov.

SUPPLEMENTARY INFORMATION: A notice was published in the Federal Register (70 FR 40984-85) on July 15, 2005, announcing the proposed withdrawal of the ten Federal Information Processing Standards (FIPS). The Federal Register notice solicited comments on the proposed withdrawal of the FIPS from the public, research communities, manufacturers, voluntary standards organizations, and Federal, State, and local government organizations. In addition to being published in the Federal Register, the notice was posted on the NIST Web pages. Information was provided about the submission of electronic comments.

Comments were received from one federal government organization. No comments were received from industry organizations or individuals.

Following is a summary of the comments received.

Comments were received from the Department of Energy (DOE) Office of Scientific and Technical Information. The DOE comments supported the withdrawal of FIPS 192, Application Profile for the Government Information Locator Service (GILS), and FIPS 192-1 (a)&(b), Application Profile for the Government Information Locator Service (GILS). DOE agreed that the withdrawal of these standards was appropriate since technology advances have made the standards obsolete.

DOE stated that the GILS standard was created in 1994 to provide a mechanism for users to identify, locate, and access or acquire publicly available federal information resources. However, in the years since GILS was issued, advances in technology have made the standard obsolete. Today there are many tools available for finding information on the Internet, including Google, FirstGov, Meta Search Engines, and the Open Archives Initiative. These newer techniques enable agencies to avoid the ongoing, resource intensive cataloging efforts mandated by the GILS.

No comments were received concerning the other standards that had been proposed for withdrawal.

The FIPS number, title, and technical specifications for each of the ten FIPS being withdrawn are:

FIPS 4-2, Representation of Calendar Date to Facilitate Interchange of Data Among Information Systems; adopts American National Standard ANSI X3.30-1997: Representation of Date for Information Interchange (revision of ANSI X3.30-1985 (R1991)).

FIPS 5-2, Codes for the Identification of the States, the District of Columbia and the Outlying Areas of the United States, and Associated Areas.

FIPS 6-4, Counties and Equivalent Entities of the U.S., Its Possessions, and Associated Areas.

FIPS 10-4, Countries, Dependencies, Areas of Special Sovereignty, and Their Principal Administrative Divisions.

FIPS 113, Computer Data Authentication.

FIPS 161-2, Electronic Data Interchange (EDI) (adopts families of EDI standards known as X12, UN/EDIFACT and HL7).

FIPS 183, Integration Definition for Function Modeling (IDEF0).

FIPS 184, Integration Definition for Information Modeling (IDEFIX).

FIPS 192, Application Profile for the Government Information Locator Service (GILS).

FIPS 192-1 (a)&(b), Application Profile for the Government Information Locator Service (GILS).

Once the FIPS are withdrawn, information on them may be found at: http://www.itl.nist.gov/fipspubs/withdraw.htm. Withdrawal means that these FIPS will no longer be part of a subscription service that is provided by the National Technical Information Service. NIST will continue to provide relevant information on standards and guidelines by means of electronic dissemination methods.

Current versions of the data standards and specifications are available through the Web pages of the Federal agencies that develop and maintain the data codes. NIST will keep references to these withdrawn FIPS on its FIPS Web pages, and will link to current versions of these standards and specifications where appropriate.

Authority: Federal Information Processing Standards (FIPS) are issued by the National Institute of Standards and Technology after approval by the Secretary of Commerce pursuant to Section 5131 of the Information Technology Management Reform Act of 1996 (Pub. L. 104-106), the Federal Information Security Management Act (FISMA) of 2002 (Pub. L. 107-347), and Appendix III to Office of Management and Budget Circular A-130.

E.O. 12866: This notice has been determined to be not significant for the purposes of E.O. 12866.

Dated: August 22, 2008.
James M. Turner,
Deputy Director.

[FR Doc. E8-20138 Filed 8-29-08; 8:45 am]

BILLING CODE 3510-13-P